DEPARTMENT OF COMMERCE

National Oceanic and Atmospheric Administration

[I.D. 101106F]

Schedule for Protected Species Safe Handling, Release, and Identification Workshops

AGENCY: National Marine Fisheries Service (NMFS), National Oceanic and Atmospheric Administration (NOAA), Commerce.

ACTION: Notice.

SUMMARY: NMFS will conduct an additional Protected Species Safe Handling, Release, and Identification Workshop in December, 2006 in Madeira Beach, FL. These workshops are mandatory for vessel owners and operators who use bottom longline, pelagic longline, or gillnet gear, and have also been issued shark or swordfish limited access permits. Vessel owners and operators whose permits expire in January 2007 must attend a workshop in 2006. Additional workshops will be held throughout 2007; however, vessel owners and operators whose permits expire in the winter or spring of 2007 are welcome to attend workshops in 2006.

DATES: The added workshop will be held from 9 a.m. to 5 p.m. on December 27, 2006. See SUPPLEMENTARY INFORMATION for a list of all workshops in December 2006.

ADDRESSES: The added workshop will be held at the City of Madeira Beach Town Hall, 300 Municipal Drive, Madeira Beach, FL 33708. See SUPPLEMENTARY INFORMATION for a list of all workshops in December 2006.

The workshop schedule and a list of frequently asked questions regarding these workshops are posted on the internet at: http://www.nmfs.noaa.gov/sfa/hms/workshops/.

FOR FURTHER INFORMATION CONTACT: For further information regarding the workshop requirement, please contact Greg Fairclough by phone:(727) 824-5399, or by fax: (727) 824-5398.

SUPPLEMENTARY INFORMATION: Effective January 1, 2007, shark limited access and swordfish limited access permit holders that use longline or gillnet gear must submit a copy of their Protected Species Safe Handling, Release, and Identification Workshop certificate in order to renew either permit (71 FR 58057; October 2, 2006). As such, vessel owners whose permits expire in January 2007 must attend one of the seven free workshops offered in 2006. Vessel owners and operators whose permits expire after January 2007 may attend a workshop to be scheduled in 2007 or one of the workshops offered in 2006 (see schedule below). Vessel owners and operators must attend a workshop and submit a copy of their certificates at the time of permit renewal. New shark and swordfish limited access permit applicants must attend a Protected Species Safe Handling, Release, and Identification Workshop and submit a copy of their workshop certificate before such permits will be issued.

In addition to certifying permit holders, all longline and gillnet vessel operators fishing with a limited access swordfish or limited access shark permit are required to attend a Protected Species Safe Handling, Release, and Identification Workshop. Vessels that have been issued a limited access swordfish or limited access shark permit and that have longline or gillnet gear onboard may not fish unless both the vessel owner and operator have valid workshop certificates. Vessel operators must possess on board the vessel valid workshop certificates for both the vessel owner and the operator at all times.

To ensure the workshop certificate is linked to the correct permit, you will need to bring the following items with you to the workshop.

Individual vessel owners must bring: proof of identification, a copy of the appropriate permit(s), and a copy of the vessel registration or documentation.

Representatives of a business owned or co-owned vessel must bring: proof that the individual is an agent of the business, a copy of the applicable permit(s), and proof of identification.

Vessel operators must bring: proof of identification.

Participants in the industry-sponsored workshops concerning the safe handling and release of sea turtles that were held in Orlando, FL (April 8, 2005), and New Orleans, LA (June 27, 2005), will be issued a workshop certificate in December 2006 that will be valid for three years. Grandfathered permit holders must include a copy of this certificate when renewing limited access shark and limited access swordfish permits each year. Failure to provide a valid workshop certificate may result in a permit denial.

The Protected Species Safe Handling, Release, and Identification Workshops are designed to teach longline and gillnet fishermen the required techniques for the safe handling and release of entangled and/or hooked protected species, such as sea turtles, marine mammals, and smalltooth sawfish. Identification of protected species will also be taught at these workshops in an effort to improve reporting. Additionally, individuals attending these workshops will gain a better understanding of the requirements for participating in these fisheries. The overall goal for these workshops is to provide participants the skills needed to reduce the mortality of protected species, which may prevent additional regulations on these fisheries in the future. The workshops on December 6, 8, and 14 were previously announced on October 2, 2006 (71 FR 58057).

Workshop Dates, Times, And Locations

1. December 6, 2006, from 9 a.m. - 5 p.m. Seminole Community Library at St. Petersburg College, Seminole Campus, 9200 113th Street N., Seminole, FL 33772.

2. December 8, 2006, from 9 a.m. - 5 p.m. Aquatic Release Conservation, 1870 Mason Ave., Daytona Beach, FL 32117.

3. December 14, 2006, from 9 a.m. - 5 p.m. New Orleans Airport Garden Inn, 4535 Williams Blvd., Kenner, LA 70065.

4. December 27, 2006, from 9 a.m. - 5 p.m. City of Madeira Beach Town Hall, 300 Municipal Drive, Madeira Beach, FL 33708.

Registration

To sign up for a scheduled workshop, please contact Aquatic Release Conservation (877) 411-4272, 1870 Mason Ave., Daytona Beach, FL 32117.

Authority: 16 U.S.C. 971 et seq. and 1801 et seq.

Dated: November 20, 2006.
James P. Burgess,
Acting Director, Office of Sustainable Fisheries, National Marine Fisheries Service.

[FR Doc. E6-20003 Filed 11-24-06; 8:45 am]

BILLING CODE 3510-22-S